DEPARTMENT OF COMMERCE

National Oceanic and Atmospheric Administration

[I.D. 022200F]

North Pacific Fishery Management Council; Public Meeting

AGENCY: National Marine Fisheries Service (NMFS), National Oceanic and Atmospheric Administration (NOAA), Commerce.

ACTION: Notice of a committee meeting.

SUMMARY: The North Pacific Fishery Management Council's (NPFMC) Observer Committee will meet in Seattle, WA.

DATES: The meeting will be held on March 20-21, 2000. The meeting will begin at 9:00 a.m. on Monday, March 20, and continue through Tuesday, March 21.

ADDRESSES: The meeting will be held at the Alaska Fisheries Science Center, 7600 Sand Point Way NE, Building 4, Room 2079, Seattle, WA.

Council address: North Pacific Fishery Management Council, 605 W. 4th Ave., Suite 306, Anchorage, AK 99501-2252.

FOR FURTHER INFORMATION CONTACT: Chris Oliver, NPFMC; telephone: 907-271-2809.

SUPPLEMENTARY INFORMATION: The committee's agenda includes the following issues:

1. Receive an update from NMFS on current issues and initiatives.

2. Discuss the following near-term issues:

(a) rollover of the existing observer program;

(b) hardware requirements and associated rulemaking;

(c) an omnibus regulatory amendment package covering observer housing, sharing of observers, changing the threshold to determine plant coverage requirements;

(d) clarification of the definition of a fishing day; and

(e) distribution of personal information on observers.

3. Identify and discuss observer availability and training requirements for observers under the Community Development Quota and American Fisheries Act fisheries.

4. Discuss long-term issues and establish timelines for further resolution. These issues include overall program funding, service delivery model, fee program development, cost distribution, and appropriate observer coverage levels, by fishery.

Although non-emergency issues not contained in this agenda may come before this committee for discussion, in accordance with the Magnuson-Stevens Fishery Conservation and Management Act, those issues may not be the subject of formal action during this meeting. Action will be restricted to those issues specifically identified in this notice and any issues arising after publication of this notice that require emergency action under section 305(c) of the Magnuson-Stevens Act, provided the public has been notified of the committee's intent to take final action to address the emergency.

Special Accommodations

This meeting is physically accessible to people with disabilities. Requests for sign language interpretation or other auxiliary aids should be directed to Helen Allen, 907-271-2809, at least 5 working days prior to the meeting date.

Dated: February 23, 2000.
Bruce C. Morehead,
Acting Director, Office of Sustainable Fisheries, National Marine Fisheries Service.

[FR Doc. 00-4773 Filed 2-28-00; 8:45 am]

BILLING CODE 3510-22-F